NATIONAL SCIENCE FOUNDATION

Sunshine Act Meeting

AGENCY HOLDING MEETING: National Science Foundation, National Science Board and its Subdivisions

DATE AND TIME: September 28-29, 2005.

September 28, 2005, 8:15 a.m.-5 p.m.

Sessions:

8:15 a.m.-9 a.m., Open;

9 a.m.-9:30 a.m., Closed;

9:30 a.m.—10:30 a.m., Open;

10:30 a.m.-11 a.m., Open;

11 a.m.-11:45 a.m., Open;

11:45 a.m.-12:05 p.m., Open;

12:05 p.m.-12:15 p.m., Closed;

12:45 p.m.-12:55 p.m., Closed;

12:55 p.m.-3 p.m., Open;

3 p.m.-5 p.m., Open.

September 29, 2005, 8 a.m.-3:30 p.m.,

Sessions:

8:30 a.m.-10 a.m., Open;

10 a.m.-10:30 a.m., Closed;

10:30 a.m.-11 a.m., Open;

11 a.m.-11:15 a.m., Closed;

1 p.m.-1:15 p.m., Executive Closed;

1:15 p.m.-1:30 p.m., Closed;

1:30 p.m.-3:30 p.m., Open.

PLACE: National Science Foundation, 4201 Wilson Blvd, Room 1235, Arlington, VA 22230.

PUBLIC MEETING ATTENDANCE: All visitors must report to the NSF's visitor's desk at the 9th and N. Stuart Streets entrance to receive a visitor's badge.

CONTACT INFORMATION: Please refer to the National Science Board Web site (www.nsf.gov/nsb) for updated schedule. NSB Office: (703) 292-7000.

STATUS: Part of this meeting will be closed to the public. Part of this meeting will be open to the public.

MATTERS TO BE CONSIDERED:

Wednesday, September 28, 2005

Open

Committee on Programs and Plans Subcommittee on Polar Issues (8:15 a.m.-9 a.m.), Room 1235

• Chair's Remarks and Approval of Minutes

• OPP Director's Report

• Update on Icebreaker Issues

• Antarctic Geological Drilling Project

• Collaboration of Researchers with Native Communities: King Island, Alaska

Education and Human Resources Subcommittee on S&E Indicators (9:30 a.m.-10:30 a.m.), Room 1235

• Approval of Minutes

• Chairman's Remarks

• Brief Progress Report on Science and Engineering Indicators 2006

• Discussion of Draft Companion Piece

• Contractor Presentation on Indicators

Committee on Programs and Plans Task Force on Transformative Research (10:30 a.m.-11 a.m.), Room 1235

• Approval of Minutes

• Brief Overview of Workshop I: August 12, 2005

• Discussion on Workshop II: December 16, 2005

Joint Session: Committee on Strategy and Budget and Committee on Programs and Plans (11 a.m.-11:45 a.m.), Room 1235

• Centers and the NSF Portfolio

• Funding Rates, Award Size and Duration

• FY 2004 Funding for Highly Successful PIs

Committee on Strategy and Budget (11:45 a.m.-12:05 p.m.), Room 1235

• Approval of August 2005 Minutes

• Discussion of CSB Contribution to Vision for NSF Document

• Status of FY 2006 Budget Request to Congress

Committee on Programs and Plans (12:55 p.m.-3 p.m.), Room 1235

• Approval of Minutes

• Charge to the International Science Effort

• Status Reports

○ Long-Lived Digital Data Collections: Enabling Research and Education in the 21st Century

○ Transformative Research Task Force

○ Subcommittee on Polar Issues

• Process for Sending Information and Actions to CPP & NSB—Revised Guidelines

• Major Research Facilities:

○ Setting Priorities for Large Research Facilities Projects Supported by the National Science Foundation: Final document

○ Facilities Plan

○ Timeline

• Cyberinfrastructure Vision: Continuing Discussion

• Hurricane Research and the Federal Government

• Millennium Ecosystem Assessment

Committee on Education and Human Resources (3 p.m.-5 p.m.), Room 1235

• Approval of August 2005 Minutes

• CEOSE Summary: Decennial and 2004 Biennial Reports to Congress

• NSF Integration of Research and Education

• NSB Commission on Education

• NSB/EHR Committee's Contribution to Board's Vision for NSF

• NSB Items

• Subcommittee on Science and Engineering Indicators

• Update on Workshop on “Engineering Workforce Issues and Engineering Education: What are the Linkages?”

Closed

Committee on Programs and Plans Subcommittee on Polar Issues (9 a.m.-9:30 a.m.), Room 1235

• NSB Action Item

Committee on Strategy and Budget (12:05 p.m.-12:15 p.m.), Room 1235

• Status of FY 2007 Budget Submission to OMB

Committee on Programs and Plans (12:45 p.m.-12:55 p.m.), Room 1235

• NSB Action Item

Thursday, September 29, 2005

Open

Committee on Audit and Oversight (8:30 a.m.-10 a.m.), Room 1235

• Approval of August 2005 Minutes

• Discussion and Committee Approval of NSF Merit Review System Review

• Discussion of NSF Vision Document: NSB Roles and Responsibilities

• Committee Approval of NSB Policy Statement on Respective Roles of the OIG and NSF Management in the Pursuit and Settlement of Administrative Investigatory Matters

• CFO Update

• OIG FY 2006 Audit Plan

Executive Committee (10:30 a.m.-11 a.m.), Room 1235

• Approval of August 2005 Minutes

• Updates or New Business from Committee Members

• Update on 2006 NSB Retreat and Off-Site Visit

• Presentation on NSF Sexual Harassment Policies

Closed Session

Committee on Audit and Oversight (10 a.m.-10:30 a.m.), Room 1235

• Pending Investigations

Executive Committee (11 a.m.-11:15 a.m.), Room 1235

• Board Member Proposal

• Director's Items

○ Specific Personnel Matters

○ Future Budgets

Plenary Session of the Board (1 p.m.-3:30 p.m.)

Executive Closed Session (1 p.m.-1:15 p.m.), Room 1235

• Approval of August 2005 Executive Closed Minutes

• Board Member Proposal

Closed Session (1:15 p.m.-1:30 p.m.), Room 1235

• Approval of August 2005 Closed Session Minutes

• Closed Committee Reports

○ Awards and Resolutions

Open Session (1:30 p.m.-3:30 p.m.), Room 1235

• Approval of August 2005 Minutes

• Resolution to Close November-December 2005

• Chairman's Report

• Director's Report

○ NSF Congressional Update

• Committee Reports

Michael P. Crosby,
Executive Officer and NSB Office Director.

[FR Doc. 05-19083 Filed 9-20-05; 3:34 pm]

BILLING CODE 7555-01-P